DEPARTMENT OF COMMERCE

National Oceanic and Atmospheric Administration

50 CFR Part 300

[Docket No. 241120-0296]

RIN 0648-BN28

International Fisheries; Pacific Tuna Fisheries; Fishing Restrictions for Tropical Tuna in the Eastern Pacific Ocean for 2025 and Beyond

AGENCY: National Marine Fisheries Service (NMFS), National Oceanic and Atmospheric Administration (NOAA), Commerce.

ACTION: Proposed rule; request for comments.

SUMMARY: NMFS proposes regulations under the Tuna Conventions Act (TCA) of 1950, as amended, to implement Resolution C-24-01 (Conservation Measures For Tropical Tunas In The Eastern Pacific Ocean During 2025-2026) adopted at the 102nd Meeting of the Inter-American Tropical Tuna Commission (IATTC) in September 2024. This proposed rule would maintain and extend management measures for fishing vessels targeting tropical tuna (i.e., bigeye tuna (Thunnus obesus)), yellowfin tuna (Thunnus albacares), and skipjack tuna (Katsuwonus pelamis) in the eastern Pacific Ocean (EPO). The fishing restrictions would apply to large purse seine vessels of class sizes 4-6 (i.e., vessels with a carrying capacity of 182 metric tons (mt) or greater) and longline vessels greater than 24 meters (m) in overall length that fish for tropical tuna in the EPO. This proposed rule is necessary for the conservation of tropical tuna stocks in the EPO and for the United States to satisfy its obligations as a member of the IATTC.

DATES: Comments on the proposed rule and supporting documents must be submitted in writing by January 6, 2025.

ADDRESSES: A plain language summary of this proposed rule is available at https://www.regulations.gov/docket/NOAA-NMFS-2024-0119. You may submit comments on this document, identified by NOAA-NMFS-2024-0119, by any of the following methods:

• Electronic Submission: Submit all electronic public comments via the Federal e-Rulemaking Portal. Visit https://www.regulations.gov and enter “NOAA-NMFS-2024-0119” in the Search box. Click on the “Comment” icon, complete the required fields, and enter or attach your comments.

• Mail: Submit written comments to Tyler Lawson, NMFS West Coast Region Portland Office, 1201 NE Lloyd Blvd., Suite 1100, Portland, OR 97232. Include the identifier “NOAA-NMFS-2024-0119” in the comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Copies of supporting documents that were prepared for this proposed rule, including the regulatory impact review (RIR) are available via the Federal e-Rulemaking Portal: http://www.regulations.gov, docket NOAA-NMFS-2024-0119, or contact Tyler Lawson, NMFS West Coast Region Portland Office, 1201 NE Lloyd Blvd., Suite 1100, Portland, OR 97205, or tyler.lawson@noaa.gov.

Send comments on aspects of the collection of information to the ADDRESSES above, and by email to OIRA_Submission@omb.eop.gov, or fax to (202) 395-5806.

FOR FURTHER INFORMATION CONTACT: Tyler Lawson, NMFS WCR, at (503) 230-5421, tyler.lawson@noaa.gov.

SUPPLEMENTARY INFORMATION:

Background on the IATTC

The United States is a member of the IATTC, which was established under the 1949 Convention for the Establishment of an Inter-American Tropical Tuna Commission (1949 Convention). In 2003, the IATTC updated the 1949 Convention through the adoption of the Convention for the Strengthening of the IATTC Established by the 1949 Convention between the United States of America and the Republic of Costa Rica (Antigua Convention). The Antigua Convention entered into force in 2010. The United States acceded to the Antigua Convention on February 24, 2016. The full text of the Antigua Convention is available at: https://www.iattc.org/PDFFiles2/Antigua_Convention_Jun_2003.pdf.

The IATTC consists of 21 member nations and 5 cooperating non-member nations. The IATTC is responsible for the conservation and management of tuna and tuna-like species in the IATTC Convention Area. The IATTC Convention Area is defined as waters of the EPO within the area bounded by the west coast of the Americas and by 50° N latitude, 150° W longitude, and 50° S latitude. The IATTC maintains a scientific research and fishery monitoring program and regularly assesses the status of tuna, sharks, and billfish stocks in the IATTC Convention Area to determine appropriate catch limits and other measures deemed necessary to promote sustainable fisheries and prevent the overexploitation of these stocks.

International Obligations of the United States Under the Antigua Convention

As a Party to the Antigua Convention and a member of the IATTC, the United States is legally bound to implement decisions of the IATTC under the Tuna Conventions Act (TCA) of 1950, as amended, 16 U.S.C. 951 et seq. (Pub. L. 114-81). The TCA directs the Secretary of Commerce, in consultation with the Secretary of State and, with respect to enforcement measures, the U.S. Coast Guard, to promulgate such regulations as may be necessary to carry out the United States' obligations under the Antigua Convention, including recommendations and decisions adopted by the IATTC. The authority of the Secretary of Commerce to promulgate such regulations has been delegated to NMFS.

IATTC Resolution on Tropical Tuna Conservation

The 102nd Meeting of the IATTC was held in Panama City, Panama, in September 2024. At this meeting, the IATTC adopted Resolution C-24-01 (Conservation Measures for Tropical Tunas In The Eastern Pacific Ocean During 2025-2026). Many of the provisions in Resolution C-24-01 are identical in content to those contained in the previous tropical tuna Resolution (C-21-04; Conservation Measures for Tropical Tuna in the Eastern Pacific Ocean During 2022-2024), which NMFS implemented in a July 8, 2022 rulemaking (87 FR 17248), and are in effect until they are modified or amended. Resolution C-24-01 continues to include provisions for a 72-day EPO fishing closure period for purse seine vessels, exemptions from that closure period due to force majeure, catch limits of bigeye tuna caught in the EPO for longline vessels greater than 24 m in overall length, catch limit transfer requirements for bigeye tuna, a requirement that all tropical tuna be retained and landed (with some exceptions), and restrictions on the use and design of fish aggregating devices (FADs).

In addition to continuing the existing measures, Resolution C-24-01 requires the IATTC to re-examine the Resolution at the annual IATTC meeting in 2025 or 2026 based on a yellowfin tuna benchmark assessment or, if a benchmark assessment is not available, the current stock assessment, as long as it is deemed reliable by IATTC scientific staff at that time. Based on that review, if necessary, the Resolution provides that the Commission will take actions to reduce fishing pressure on yellowfin tuna to a level that allows for sustainable fishing. Alternatively, if the benchmark assessment or stock assessment shows that the yellowfin tuna stock is not overfished nor subject to overfishing, the Commission would consider options for new measures that reduce the number of days of closure or the elimination of the “corralito” closure area, which NMFS currently has implemented in 50 CFR 300.25(e)(1) and 300.25(e)(6). If action is taken by the IATTC in 2025 and a new Resolution is adopted, NMFS would consider additional action as appropriate.

The implementation of this Resolution by all IATTC members is intended to prevent overfishing of tropical tuna stocks in the EPO. Based on 2024 IATTC benchmark stock assessments and applying the stock status criteria NMFS identified in the Highly Migratory Species Fisheries Management Plan (HMS FMP), the stocks are not subject to overfishing and are not overfished. Based on the most recent IATTC benchmark assessment (2020) for yellowfin tuna in the EPO, NMFS determined the stock is not overfished or subject to overfishing. Efforts to complete a new benchmark assessment for yellowfin tuna are underway, and results are anticipated within the next 2 years.

For the 2024 Commission meeting of the IATTC, the IATTC scientific staff recommended that conservation measures from tropical tuna Resolution C-21-04 be extended to prevent overfishing of these stocks. Those measures are already codified and would continue under this proposed rule, as discussed in the following section.

Proposed Regulations

This proposed rule would be implemented under the TCA (16 U.S.C. 951 et seq.) and include minor changes to part 300, subpart C of title 50 of the Code of Federal Regulations (CFR). The proposed rule would apply to U.S. commercial fishing vessels using purse seine and longline gear to catch tropical tuna in the IATTC Convention Area. Most of the measures in Resolution C-24-01 do not need to be implemented through this proposed rule because they continue existing measures that are already codified and do not expire. These include maintaining a 750 mt catch limit on bigeye tuna caught by longline vessels greater than 24 m in overall length in the IATTC Convention Area (50 CFR 300.25(a)(2)), maintaining the prohibition on purse seine vessels of class size 4 to 6 (i.e., vessels with a carrying capacity greater than 182 mt) from fishing for tropical tuna in the IATTC Convention Area for a period of 72 days (50 CFR 300.25(e)(1)), and maintaining a closure period (i.e., the Corralito closure) for the purse seine fishery for tropical tuna within the area of 96° W and 110° W and between 4° N and 3° S annually from 0000 hours on October 9 to 2400 hours on November 8 (50 CFR 300.25(e)(5)).

The following provisions of C-24-01 also are already in the regulations:

• Provisions related to transferring longline catch limits for bigeye tuna between IATTC members (50 CFR 300.25(a)(5));

• Provisions related to selection of a 72-day closure period (50 CFR 300.25(e)(2) and (3));

• Provisions related to exemptions from the 72-day closure period requirement due to force majeure (50 CFR 300.25(e)(5));

• Requirements related to stowing gear during time/area closure periods (50 CFR 300.25(e)(7));

• A requirement that all tropical tuna be retained on board and landed (with certain exceptions) (50 CFR 300.27(a));

• Restrictions related to FADs for purse seine vessels in the IATTC Convention Area (50 CFR 300.22(c) and 50 CFR 300.28);

• Prohibitions against failing to comply with gear-stowing restrictions, retention requirements, and FAD-related restrictions (50 CFR 300.24(e), (f), (m), (nn), (oo), and (pp)); and,

• Reporting requirements for satellite buoys, including specific information about activations and deactivations (50 CFR 300.22(c)(3) and (4)), and circumstances where activations and deactivations are allowed (50 CFR 300.28(d) and (e)).

The following management measures would continue unless and until modified or replaced, rather than expiring in 2025.

Regulations at 50 CFR 300.25(e) currently specify a system of additional closure days for class size 4-6 purse seine vessels that exceed specified annual catch levels for bigeye tuna for calendar years 2023 and 2024. Under this proposed rule, the regulations would remain in effect for 2025 and future calendar years. The catch levels would continue to begin at 1,200 mt of bigeye tuna with 10 additional closure days and would increase incrementally by 300 mt and 3 additional closure days beyond that level. U.S. purse seine vessels that exceed a certain annual catch level of bigeye tuna would be required to increase the number of closure days they observe in the following year, as specified in table 1.

Table 1—Bigeye Tuna Catch Levels and Corresponding Additional Closure Days
Catch level (mt) exceeded | Additional closure days observed
1,200 | 10
1,500 | 13
1,800 | 16
2,100 | 19
2,400 | 22

Regulations at 50 CFR 300.28(c) implement restrictions on active FAD limits, as specified in table 2, for calendar year 2024.

Table 2—Active FAD Limits for Purse Seine Vessels
Well volume (m³) | Active FAD limit
1,200 or more | 340
426-1,199 | 210
213-425 | 85
0-212 | 50

Under this proposed rule, the active FAD limits would remain in effect for 2025 and future calendar years.

Although Resolution C-24-01 is in effect through 2026, NMFS does not intend for these proposed regulations to expire concurrently with the Resolution. Instead, because the IATTC will likely continue to adopt similar conservation and management measures upon expiration of this resolution, and to avoid a lapse in the management of the fishery that may occur between expiration of the proposed regulations and implementation of new measures adopted by the IATTC, NMFS proposes that these regulations would remain in effect unless and until they are amended or replaced.

The TCA gives NMFS the authority to promulgate such regulations as may be necessary to carry out the United States' international obligations under the Convention and this chapter, including recommendations and decisions adopted by the Commission. 16 U.S.C. 955(a). In past years, NMFS has implemented IATTC resolutions for specific calendar years, and this approach has at times led to lapses in management in the affected fisheries in subsequent years. Given the time-consuming nature of the U.S. domestic rulemaking process, combined with the increasingly frequent delayed adoption of IATTC resolutions, implementing domestic measures that do not expire unless and until new measures are in place is necessary to carry out the United States' international obligations under the Antigua Convention and the TCA because it will ensure there is no lapse in management of the tropical tuna fishery in the EPO.

Thus, NMFS proposes that the proposed regulations would remain in effect until they are amended or replaced. NMFS intends to publish proposed and final rules to implement new resolutions adopted by the IATTC as expeditiously as possible; however, this approach would allow existing regulations to remain in force and prevent any lapse in regulatory coverage caused by expirations.

Because the IATTC adopted Resolution C-24-01 as a 2-year conservation and management measure (2025-2026), the supporting analyses for this proposed rule (discussed later in the Classification section) cover a 2-year time period, with the understanding that NMFS would consider whether these analyses would need to be supplemented should the measures remain in effect for more than 2 years.

Classification

The NMFS Assistant Administrator has determined that this proposed rule is consistent with the TCA and other applicable laws, subject to further consideration after public comment.

Executive Order 12866

This proposed rule has been determined to be not significant for purposes of Executive Order 12866.

Paperwork Reduction Act

This proposed rule does not contain changes to the collection of information requirement for the purposes of the Paperwork Reduction Act of 1995. The existing collection of information requirements would continue to apply under Office of Management and Business (OMB) Control Number 0648-0214 (Pacific Islands Region Logbook Family of Forms) as well as for OMB Control Number 0648-0148 (West Coast Region Pacific Tuna Fisheries Logbook, Fish Aggregating Device Form, and Observer Safety Reporting) OMB Paperwork Reduction Act (PRA) requirements.

Notwithstanding any other provision of the law, no person is required to respond to, and no person shall be subject to penalty for failure to comply with, a collection of information subject to the requirements of the PRA, unless that collection of information displays a currently valid OMB control number. All currently approved NOAA collections of information may be viewed at: https://www.reginfo.gov/public/do/PRAMain.

Regulatory Flexibility Act

Pursuant to the Regulatory Flexibility Act, 5 U.S.C. 605(b), the Chief Counsel for Regulation of the Department of Commerce has certified to the Chief Counsel for Advocacy of the Small Business Administration that this proposed rule, if adopted, would not have a significant economic impact on a substantial number of small entities. The rationale for the certification is provided in the following paragraphs.

The United States Small Business Administration defines a “small business” (or “small entity”) as one with annual revenue that meets or is below an established size standard. For Regulatory Flexibility Act purposes only, NMFS has established a small business size standard of $11 million in annual gross receipts for businesses, including their affiliates, whose primary industry is commercial fishing (see 50 CFR 200.2). This standard applies to all businesses classified under North American Industry Classification System (NAICS) code 11411 for commercial fishing, including all businesses classified as commercial finfish fishing (NAICS 114111), commercial shellfish fishing (NAICS 114112), and other commercial marine fishing (NAICS 114119) businesses.

NMFS prepared the following analyses for this regulatory action in light of this size standard. All of the entities directly regulated by this regulatory action are commercial finfish fishing businesses. Under this size standard, some U.S. purse seine vessels affected by this action are considered large, and some are small businesses. The longline vessels this action applies to are considered to be small businesses based on above standards.

U.S. Purse Seine Vessels Fishing in the IATTC Convention Area

There are two components to the U.S. tuna purse seine fishery in the EPO: (1) large purse seine vessels (class size 6; greater than 363 mt carrying capacity) that typically have been based in the western and central Pacific Ocean (WCPO), and (2) coastal purse seine vessels with smaller fish hold volumes (class sizes 2-3; between 46-181 mt carrying capacity) that are based on the U.S. West Coast. Although Resolution C-24-01 and the proposed implementing regulations include restrictions for class size 4-5 (182-363 mt carrying capacity) purse seine vessels, there are currently no U.S. vessels of class sizes 4-5 registered to fish in the IATTC Convention Area, nor have there been in the past 10 years. Therefore, to the extent the proposed regulations specify application to class size 4-5 purse seine vessels, they are not expected to have any impact on U.S. vessel owners or operators.

As of September 2024, the U.S. has 14 active large U.S. purse seine vessels on the IATTC Regional Vessel Register authorized to fish in the EPO. Twelve of these vessels also have Western and Central Pacific Fisheries Commission (WCPFC) Area Endorsements. WCPFC Area Endorsements are NMFS-issued authorizations required for a vessel to fish commercially for HMS on the high seas in the WCPFC Convention Area. NMFS used cannery data from the IATTC and Regional Purse Seine Logbook (RPL) data from Pacific Islands Fisheries Science Center to estimate fish landings in both the EPO and WCPO for the vessels that fished in both Convention Areas within a year.

Because neither gross receipts nor ex-vessel price information specific to individual fishing vessels are available to NMFS, NMFS applied regional price data—as approximations of ex-vessel prices—to annual catches of individual vessels obtained from RPLs and IATTC observer data, to estimate the vessels' annual receipts.

Using this approach, NMFS estimates that among the affected vessels, the range in average annual per-vessel receipts in 2021-2023 was $500,000 to $13.4 million with an average of approximately $10 million. Nine of the active purse seine vessels had estimated average annual receipts of less than $11 million, and thus are considered to be small entities. The remaining five are considered large businesses.

U.S. Longline Vessels That Fish in the IATTC Convention Area

As of September 2024, the IATTC Regional Vessel Register lists 35 large-scale longline vessels (i.e., greater than 24 m in overall length) that have the option to fish in the IATTC Convention Area. The majority of these longline vessels have Hawaii Longline Limited Access Permits (issued under 50 CFR 665.13). Under the Hawaii longline limited access program, no more than 164 permits may be issued. The Hawaii longline fisheries include a tuna-targeting (including bigeye tuna) deep-set fishery and swordfish-targeting shallow set fishery. Additionally, there are U.S. longline vessels based on the U.S. West Coast, some of which operate under the Pacific HMS permit and high seas permits. U.S. West Coast-based longline vessels operating under the Pacific HMS permit fish primarily in the EPO and are currently restricted to fishing with deep-set longline gear outside of the U.S. West Coast exclusive economic zone.

Between 2019 and 2023, longline vessels that fished in the IATTC Convention Area had average ex-vessel revenues ranging from $197,301 to $255,985 for total landings, including those in the EPO and WCPO. The maximum ex-vessel revenue of any longline vessel that fished in the IATTC Convention Area was well below the $11 million threshold for finfish harvesting businesses. Therefore, all of the longline vessels impacted by the proposed rule would be considered small business entities.

Economic Impacts

The proposed action is not expected to have a significant economic impact on a substantial number of small entities. Purse seine vessels subject to this proposed rule are considered to include both large and small businesses, and longline vessels subject to this proposed rule are considered to be small businesses. All of the measures in the Resolution maintain purse seine and longline measures that have been in place in U.S. regulations for years and are therefore routine for the purse seine and longline fleets. As described above, the IATTC extended the measures to prevent overfishing.

Two provisions in the 2024 Resolution are proposed to be extended beyond 2026 and without a specified end date. The proposed extension of the regulations to continue these provisions in this way, and the expected economic effects of these changes, are discussed in detail below.

Additional closure days: The proposed action would remove end dates from the regulations and thus would continue to add 10 closure days for purse seine vessels that catch more than 1,200 mt of bigeye tuna, and would continue to add 3 additional closure days for every additional 300 mt caught beyond the 1,200 mt. In reviewing catch levels for U.S. purse seine vessels from 2017-2020, only one U.S. vessel caught more than 1,200 mt in a single year. Since the 2022 rulemaking was put in place, no U.S. vessels have caught more than 1,200 mt in a single year. Thus, it is not expected that many, if any, U.S. vessels would be required to adhere to additional closure days. For vessels that may need to observe additional closure days, the majority of vessels have the option to fish in the WCPO, pending closures in the WCPFC Convention Area, noting that tropical tuna stocks in the WCPO are considered distinct from EPO stocks.

FAD limits: The proposed rule would remove specific end years from FAD limits per vessel. With respect to limits on active FADs, all large U.S. purse seine vessels currently on the IATTC Regional Vessel Register have a well volume of 1,200 m³ or more. Therefore, the limit of 340 active FADs per large U.S. purse seine vessel would continue to apply in 2025 and beyond. According to 2018-2020 purse seine effort data provided by IATTC scientific staff, the average number of active FADs per U.S. vessel is approximately 90 and the maximum number per vessel is 271. Since the 2022 rulemaking began to gradually decrease active FAD limits to their current limits, U.S. purse seine vessels have continued to operate within the established limits. Thus, these proposed regulations are not expected to reduce the number of active FADs any U.S. purse seine vessel has in the water. As a result, these measures are not expected to reduce the profitability of the fishery, and no disproportionate impacts between small and large businesses are expected.

In summary, the proposed action is not expected to substantially change the typical fishing practices of affected vessels. Any impact to the income of U.S. vessels is expected to be minor. Therefore, NMFS has determined that this proposed rule is not expected to have a significant economic impact on a substantial number of small entities. Therefore, an Initial Regulatory Flexibility Analysis is not required and none has been prepared.

List of Subjects in 50 CFR Part 300

Administrative practice and procedure, Fish, Fisheries, Fishing, Marine resources, Reporting and recordkeeping requirements, Treaties.

Dated: November 20, 2024.
Samuel D. Rauch, III,
Deputy Assistant Administrator for Regulatory Programs, National Marine Fisheries Service.

For the reasons set out in the preamble, NMFS proposes to amend 50 CFR part 300 as follows:

PART 300—INTERNATIONAL FISHERIES REGULATIONS

1. The authority citation for part 300, subpart C, continues to read as follows:

Authority: 16 U.S.C. 951 et seq.

2. Amend § 300.25 by revising paragraph (e)(2)(i) to read as follows:

§ 300.25 Fisheries Management.

* * * * *

(e) * * *

(2) * * *

(i) U.S. purse seine vessels that exceed a certain annual catch level of bigeye tuna must increase the number of closure days they observe in the following year, as specified in table 1 to this paragraph (e)(2).

Table 1 to paragraph (e)(2)
Catch level (mt) exceeded | Additional closure days observed
1,200 | 10
1,500 | 13
1,800 | 16
2,100 | 19
2,400 | 22

* * * * *

3. Amend § 300.28 by revising paragraph (c) to read as follows:

§ 300.28 FAD restrictions.

* * * * *

(c) Restrictions on Active FADs for purse seine vessels. U.S. vessel owners and operators of purse-seine vessels with the following well volume in cubic meters (m³) must not have more than the following number of Active FADs per vessel in the IATTC Convention Area at any one time, as specified in table 1 to this paragraph (c).

Table 1 to Paragraph (c)
Well volume (m³) | Active FAD limit
1,200 or more | 340
426-1,199 | 210
213-425 | 85
0-212 | 50

* * * * *

[FR Doc. 2024-27689 Filed 12-4-24; 8:45 am]

BILLING CODE 3510-22-P